FEDERAL COMMUNICATIONS COMMISSION

FCC To Hold Open Commission Meeting Thursday, January 29, 2015

January 22, 2015.

The Federal Communications Commission will hold an Open Meeting on the subjects listed below on Thursday, January 29, 2015. The meeting is scheduled to commence at 10:30 a.m. in Room TW-C305, at 445 12th Street SW., Washington, DC With respect only to item no. 1 listed below, the Commission is waiving the sunshine period prohibition contained in § 1.1203 of the Commission's rules, 47 CFR 1.1203, until 11:59 p.m. on Friday, January 23, 2015. Thus, presentations with respect to item #1 will be permitted until that time.

Item No. | Bureau | Subject
1 | PUBLIC SAFETY AND HOMELAND SECURITY | TITLE: Wireless E911 Location Accuracy Requirements (PS Docket No. 07-114). SUMMARY: The Commission will consider a Report and Order to ensure that accurate caller location information is automatically provided to public safety officials for all wireless calls to 911, including for indoor calls, to meet consumer and public safety needs and expectations, and to take advantage of new technological developments.
2 | WIRELINE COMPETITION | TITLE: Inquiry Concerning the Development of Advanced Telecommunications Capability to All Americans in a Reasonable and Timely Fashion, and Possible Steps to Accelerate Such Deployment Pursuant to section 706 of the Telecommunications Act of 1996, as Amended by the Broadband Data Improvement Act (GN Docket No. 14-126).
|  | SUMMARY: The Commission will consider a 2015 Broadband Progress Report examining whether advanced telecommunications capability is being deployed to all Americans in a reasonable and timely fashion; and a Notice of Inquiry asking what immediate action the Commission should take to accelerate the deployment of such capability by removing barriers to infrastructure investment and by promoting competition in the telecommunications market.
3 | WIRELINE COMPETITION | TITLE: Inquiry Concerning the Development of Advanced Telecommunications Capability to All Americans in a Reasonable and Timely Fashion, and Possible Steps to Accelerate Such Deployment Pursuant to section 706 of the Telecommunications Act of 1996, as Amended by the Broadband Data Improvement Act (GN Docket Nos. 12-228 and 14-126).
|  | SUMMARY: The Commission will consider an Order announcing the conclusion of the Ninth Notice of Inquiry.
4 | CONSUMER & GOVERNMENTAL AFFAIRS | PRESENTATION: The Commission will hear a presentation on the new Consumer Help Center that provides an easier-to-use, more consumer-friendly portal for filing and monitoring informal consumer complaints, as well as accessing educational materials.
5 | ENFORCEMENT BUREAU | TITLE: Enforcement Bureau Action SUMMARY: The Commission will consider whether to take an enforcement action.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2015-01608 Filed 1-28-15; 8:45 am]

BILLING CODE 6712-01-P